DEPARTMENT OF TRANSPORTATION

Federal Aviation Administration

Advisory Circular 25.1353-1, Electrical Equipment and Installations

AGENCY: Federal Aviation Administration (FAA), DOT.

ACTION: Notice of availability of Advisory Circular (AC) 25.1353-1.

SUMMARY: This AC provides methods acceptable to the Administrator for showing compliance with the revised airworthiness standards for electrical equipment and installation on transport category airplanes. The guidance provided in the AC supplements the engineering and operational judgment that must form the basis of any compliance findings relative to electrical installation and nickel cadmium installation to minimize the hazards to an airplane.

EFFECTIVE DATE: March 25, 2004.

FOR FURTHER INFORMATION CONTACT: Stephen Slotte, Airplane and Flightcrew Branch, Transport Airplane Directorate, FAA, Aircraft Certification Service, 1601 Lind Avenue SW., Renton, Washington 98055-4056; telephone (425) 227-2315; fax (425) 227-1320; e-mail steve.slotte@faa.gov.

SUPPLEMENTARY INFORMATION:

Availability of AC

The AC can be found and downloaded from the Internet at the link titled http://www.airweb.faa.gov/rgl. A paper copy of the AC may be obtained by contacting the person named above under the caption FOR FURTHER INFORMATION CONTACT.

Discussion

Advisory circular 25.1353-1, “Electrical Equipment and Installations,” has been prepared to provide guidance on one means of demonstrating compliance with the requirements of § 25.1353, “Electrical Equipment and Installations,” of Title 14, Code of Federal Regulations (CFR) part 25. Part 25 contains the airworthiness standards applicable to transport category airplanes.

The means of compliance described in AC 25.1353-1 is intended to provide guidance to supplement the engineering and operational judgment that must form the basis of any compliance findings relative to paragraph §§ 25.1353(a) and 25.1353(c)(6). These paragraphs concern electrical equipment, nickel cadmium battery installations, and nickel cadmium battery storage.

Harmonization of Standards and Guidance

The AC is based on recommendations submitted to the FAA by the Aviation Rulemaking Advisory Committee (ARAC). The FAA tasked ARAC (63 FR 50954, September 23, 1998) to provide advice and recommendations on “harmonizing” certain sections of part 25 with the counterpart standards contained in Joint Aviation Requirements (JAR) 25. The goal of “harmonization tasks,” such as this, is to ensure that:

• Where possible, standards and guidance do not require domestic and foreign parties to manufacture or operate to different standards for each country involved; and

• The standards and guidance adopted are mutually acceptable to the FAA and the foreign aviation authorities.

The guidance contained in the AC has been harmonized with that of the JAA, and provides a method of compliance that has been found acceptable to both the FAA and JAA.

Issued in Renton, Washington, on March 25, 2004.
Kalene C. Yanamura,
Acting Manager, Transport Airplane Directorate, Aircraft Certification Service.

[FR Doc. 04-8369 Filed 4-12-04; 8:45 am]

BILLING CODE 4910-13-M